DEPARTMENT OF HOMELAND SECURITY

Federal Emergency Management Agency

[Docket ID FEMA-2024-0002; Internal Agency Docket No. FEMA-B-2431]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arkansas: Benton | City of Bentonville (23-06-1761P). | The Honorable Stephanie Orman, Mayor, City of Bentonville, 305 Southwest A Street, Bentonville, AR 72712. | Engineering Department, 3200 Southwest Municipal Drive, Bentonville, AR 72712. | https://msc.fema.gov/portal/advanceSearch. | Jul. 8, 2024 | 080182
Colorado:
Weld | City of Evans (22-08-0399P). | The Honorable Mark Clark, Mayor, City of Evans, 1100 37th Street, Evans, CO 80620. | City Hall, 1100 37th Street, Evans, CO 80620. | https://msc.fema.gov/portal/advanceSearch. | Jul. 22, 2024 | 080182
Weld | Unincorporated areas of Weld County (22-08-0399P). | Kevin Ross, Chair, Weld County Board of Commissioners, P.O. Box 758, Greeley, CO 80632. | Weld County Administrative Building, 1150 O Street, Greeley, CO 80631. | https://msc.fema.gov/portal/advanceSearch. | Jul. 22, 2024 | 080266
Florida:
Lee | Village of Estero (23-04-0983P). | The Honorable Jon McLain, Mayor, Village of Estero, 9401 Corkscrew Palms Circle, Estero, FL 33928. | Village Hall, 9401 Corkscrew Palms Circle, Estero, FL 33928. | https://msc.fema.gov/portal/advanceSearch. | Jul. 15, 2024 | 120260
Lee | Unincorporated areas of Lee County (23-04-0983P). | David Harner, Lee County Manager, 2115 2nd Street, Fort Myers, FL 33901. | Lee County Building Department, 1500 Monroe Street, Fort Myers, FL 33901. | https://msc.fema.gov/portal/advanceSearch. | Jul. 15, 2024 | 125124
Lee | Unincorporated areas of Lee County (24-04-0733P). | David Harner, Lee County Manager, 2115 2nd Street, Fort Myers, FL 33901. | Lee County Building Department, 1500 Monroe Street, Fort Myers, FL 33901. | https://msc.fema.gov/portal/advanceSearch. | Jun. 24, 2024 | 125124
Pasco | Unincorporated areas of Pasco County (23-04-4336P). | Ron Oakley, Chair, Pasco County Board of Commissioners, 37918 Meridian Avenue, New Port Richey, FL 34654. | Pasco County Building, Construction Services Department, 8661 Citizens Drive, Suite 100, New Port Richey, FL 34654. | https://msc.fema.gov/portal/advanceSearch. | Jul. 11, 2024 | 120230
Sumter | Unincorporated areas of Sumter County (24-04-1005X). | Craig A. Estep, Chair, Sumter County Board of Commissioners, 7375 Powell Road, Wildwood, FL 34785. | Sumter County Administration Building, 7375 Powell Road, Wildwood, FL 34785. | https://msc.fema.gov/portal/advanceSearch. | Jul. 19, 2024 | 120296
Volusia | City of Ormond Beach (23-04-6364P). | The Honorable Bill Partington Mayor, City of Ormond Beach, 22 South Beach Street, Ormond Beach, FL 32174. | City Hall, 22 South Beach Street, Ormond Beach, FL 32174. | https://msc.fema.gov/portal/advanceSearch. | Jul. 12, 2024 | 125136
Georgia:
Fulton | City of Alpharetta (23-04-5816P). | The Honorable Jim Gilvin, Mayor, City of Alpharetta, 2 Park Plaza, Alpharetta, GA 30009. | City Hall, 2 Park Plaza, Alpharetta, GA 30009. | https://msc.fema.gov/portal/advanceSearch. | Jul. 12, 2024 | 130084
Gwinnett | Unincorporated areas of Gwinnett County (23-04-2557P). | Nicole Love Hendrickson, Chair, Gwinnett County Board of Commissioners, 75 Langley Drive, Lawrenceville, GA 30046. | Gwinnett County Department of Planning and Development, 446 West Crogan Street, Suite 300, Lawrenceville, GA 30046. | https://msc.fema.gov/portal/advanceSearch. | Jul. 15, 2024 | 130322
Maryland:
Anne Arundel | Unincorporated areas of Anne Arundel County (23-03-0580P). | Steuart Pittman, Anne Arundel County Executive, 44 Calvert Street, Annapolis, MD 21401. | Anne Arundel County Heritage Office Complex, 2664 Riva Road, Annapolis, MD 21401. | https://msc.fema.gov/portal/advanceSearch. | Jun. 24, 2024 | 240008
Prince Georges | City of Laurel (23-03-0580P). | The Honorable Keith R. Sydnor, Mayor, City of Laurel, 8103 Sandy Spring Road, Laurel, MD 20707. | City Hall, 8103 Sandy Spring Road, Laurel, MD 20707. | https://msc.fema.gov/portal/advanceSearch. | Jun. 24, 2024 | 240053
Maine:
Cumberland | Town of Harpswell (24-01-0301X). | Kevin E. Johnson Chair, Town of Harpswell Board of Selectmen,P.O. Box 39, Harpswell, ME 04079. | Code Office, 263 Mountain Road, Harpswell, ME 04079. | https://msc.fema.gov/portal/advanceSearch. | Jun. 24, 2024 | 230169
York | Town of Kittery (24-01-0142P). | Kendra Amaral, Manager, Town of Kittery, 200 Rogers Road, Kittery, ME 03904. | Planning and Development Department, 200 Rogers Road, Kittery, ME 03904. | https://msc.fema.gov/portal/advanceSearch. | Jul. 18, 2024 | 230171
North Carolina:
Henderson | City of Hendersonville (22-04-5682P). | The Honorable Barbara Volk, Mayor, City of Hendersonville, 160 6th Avenue East, Hendersonville, NC 28792. | City Hall, 305 Williams Street, Hendersonville, NC 28792. | https://msc.fema.gov/portal/advanceSearch. | Jun. 28, 2024 | 370128
Randolph | Unincorporated areas of Randolph County (23-04-2820P). | Darrell L. Frye, Chair, Randolph County Board of Commissioners, 725 McDowell Road, Asheboro, NC 27205. | Central Permitting Building, 204 East Academy Street, Asheboro, NC 27205. | https://msc.fema.gov/portal/advanceSearch. | Jul. 17, 2024. | 370195
Robeson | Unincorporated areas of Robeson County (23-04-4166P). | John Cummings, Chair, Robeson County Board of Commissioners, 550 North Chestnut Street, Lumberton, NC 28358. | Robeson County Planning and Zoning Department, 701 North Elm Street, Lumberton, NC 28358. | https://msc.fema.gov/portal/advanceSearch. | Jun. 10, 2024 | 370202
Union | Unincorporated areas of Union County (23-04-3292P). | J.R. Rowell, Chair, Union County Board of Commissioners, 500 North Main Street, Suite 914, Monroe, NC 28112. | Union County Planning Department, 500 North Main Street, Suite 70, Monroe, NC 28112. | https://msc.fema.gov/portal/advanceSearch. | Jul. 15, 2024 | 370234
Wake | City of Raleigh (22-04-5283P). | The Honorable Mary-Ann Baldwin, Mayor, City of Raleigh, P.O. Box 590, Raleigh, NC 27601. | Engineering Services Department, 1 Exchange Plaza, Suite 706, Raleigh, NC 27601. | https://msc.fema.gov/portal/advanceSearch. | Jul. 29, 2024 | 370243
Tennessee:
Davidson and Sumner | City of Goodlettsville (23-04-1929P). | The Honorable Rusty Tinnin, Mayor, City of Goodlettsville, 105 South Main Street, Goodlettsville, TN 37072. | City Hall, 318 North Main Street, Goodlettsville, TN 37072. | https://msc.fema.gov/portal/advanceSearch. | Jul. 8, 2024 | 470287
Davidson | Metropolitan Government of Nashville-Davidson County (23-04-1929P). | The Honorable John Cooper, Mayor, Metropolitan Government of Nashville-Davidson County, 1 Public Square, Suite 100, Nashville, TN 37201. | Metro Water Services Administration Building, 1600 2nd Avenue North, Nashville, TN 37208. | https://msc.fema.gov/portal/advanceSearch. | Jul. 8, 2024 | 470040
Sumner | City of Gallatin (23-04-4807P). | The Honorable Paige Brown, Mayor, City of Gallatin, 132 West Main Street, Gallatin, TN 37066. | City Hall, 132 West Main Street, Gallatin, TN 37066. | https://msc.fema.gov/portal/advanceSearch. | Jul. 12, 2024 | 470185
Sumner | City of Hendersonville (23-04-4807P). | The Honorable Jamie Clary, Mayor, City of Hendersonville, 101 Maple Drive North, Hendersonville, TN 37075. | City Hall, 101 Maple Drive North, Hendersonville, TN 37075. | https://msc.fema.gov/portal/advanceSearch. | Jul. 12, 2024 | 470186
Sumner | Unincorporated areas of Sumner County (23-04-4807P). | The Honorable John C. Isbell, Mayor, Sumner County, 355 North Belvedere Drive, Room 102, Gallatin, TN 37066. | Sumner County Administration Building, 355 North Belvedere Drive, Gallatin, TN 37066. | https://msc.fema.gov/portal/advanceSearch. | Jul. 12, 2024 | 470349
Texas:
Bell | City of Copperas Cove (23-06-1940P). | Ryan Haverlah, Manager, City of Copperas Cove, 914 South Main Street, Suite D, Copperas Cove, TX 76522. | Development Services Department, 914 South Main Street, Suite G, Copperas Cove, TX 76522. | https://msc.fema.gov/portal/advanceSearch. | Jul. 15, 2024 | 480155
Bell | City of Killeen (24-06-0682P). | The Honorable Debbie Nash-King, Mayor, City of Killeen, P.O. Box 1329 Killeen, TX 76541. | City Hall, 101 North College Street, Killeen, TX 76541. | https://msc.fema.gov/portal/advanceSearch. | Jul. 11, 2024 | 480031
Brazos | City of Bryan (24-06-0422P). | The Honorable Bobby Gutierrez, Mayor, City of Bryan, P.O. Box 1000, Bryan, TX 77805. | City Hall, 300 South Texas Avenue, Bryan, TX 77803. | https://msc.fema.gov/portal/advanceSearch. | Jul. 17, 2024 | 480082
Caldwell | City of Lockhart (24-06-0378P). | The Honorable Lew White, Mayor, City of Lockhart, P.O. Box 239, Lockhart, TX 78644. | City Hall, 308 West San Antonio Street, Lockhart, TX 78644. | https://msc.fema.gov/portal/advanceSearch. | Jul. 12, 2024 | 480095
Caldwell | Unincorporated areas of Caldwell County (24-06-0378P). | The Honorable Hoppy Haden, Caldwell County Judge, 110 South Main Street, Room 101, Lockhart, TX 78644. | Caldwell County Justice Center, 1703 South Colorado Street, Lockhart, TX 78644. | https://msc.fema.gov/portal/advanceSearch. | Jul. 12, 2024 | 480094
Collin | City of Plano (23-06-2014P). | The Honorable John B. Muns, Mayor, City of Plano, 1520 K Avenue, Plano, TX 75074. | Engineering Department, 1520 K Avenue, Plano, TX 75074. | https://msc.fema.gov/portal/advanceSearch. | Jul. 15, 2024 | 480140
Harris | Unincorporated areas of Harris County (22-06-2364P). | The Honorable Lina Hidalgo, Harris County Judge, 1001 Preston Street, Suite 911, Houston, TX 77002. | Harris County Permit Office, 1111 Fannin Street, 8th Floor, Houston, TX 77002. | https://msc.fema.gov/portal/advanceSearch. | Jul. 8, 2024 | 480287
Montgomery | City of Conroe (23-06-1878P). | The Honorable Jody Czajkoski, Mayor, City of Conroe, 300 West Davis Street, Conroe, TX 77301. | City Hall, 700 Metcalf Street, Conroe, TX 77301. | https://msc.fema.gov/portal/advanceSearch. | Jun. 27, 2024 | 480484
Montgomery | Unincorporated areas of Montgomery County (23-06-1878P). | The Honorable Mark J. Keough, Montgomery County Judge, 501 North Thompson Street, Suite 401, Conroe, TX 77301. | Alan B. Sadler, Commissioners' Court Building, 501 North Thompson Street, Suite 401, Conroe, TX 77301. | https://msc.fema.gov/portal/advanceSearch. | Jun. 27, 2024 | 480483
Tarrant | City of Fort Worth (23-06-0416P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Jul. 1, 2024 | 480596
Tarrant | City of Fort Worth (23-06-1364P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Jul. 22, 2024 | 480596
Tarrant | City of Fort Worth (23-06-1452P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Jul. 15, 2024 | 480596
Tarrant | City of Grand Prairie (23-06-2070P). | The Honorable Ron Jensen, Mayor, City of Grand Prairie, 300 West Main Street, Grand Prairie, TX 75050. | Stormwater Department, 300 West Main Street, Grand Prairie, TX 75050. | https://msc.fema.gov/portal/advanceSearch. | Jul. 15, 2024 | 485472
Tarrant | City of Haltom City (23-06-1452P). | The Honorable An Truong, Mayor, City of Haltom City, 5024 Broadway Avenue, Haltom City, TX 76117. | Public Works Department, 4200 Hollis Street, Haltom City, TX 76111. | https://msc.fema.gov/portal/advanceSearch. | Jul. 15, 2024 | 480599
Tarrant | City of Keller (23-06-1786P). | The Honorable Armin Mizani, Mayor, City of Keller, P.O. Box 770 Keller, TX 76244. | Public Works Department, 1100 Bear Creek Parkway, Keller, TX 76248. | https://msc.fema.gov/portal/advanceSearch. | Jul. 15, 2024 | 480602
Williamson | City of Cedar Park (23-06-1438P). | The Honorable Jim Penniman-Morin, Mayor, City of Cedar Park, 450 Cypress Creek Road, Building 1, Cedar Park, TX 78613. | City Hall, 450 Cypress Creek Road, Building 1, Cedar Park, TX 78613. | https://msc.fema.gov/portal/advanceSearch. | Jul. 22, 2024 | 481282
Virginia: Prince William | Unincorporated areas of Prince William County (23-03-0600P). | Christopher Shorter, Prince William County Executive, 1 County Complex Court, Prince William, VA 22192. | Prince William County Environmental Management Division, 5 County Complex Court, Suite 170, Prince William, VA 22192. | https://msc.fema.gov/portal/advanceSearch. | Jul. 5, 2024 | 510119
West Virginia:
Jefferson | City of Charles Town (23-03-0716P). | The Honorable Bob Trainor, Mayor, City of Charles Town, 101 East Washington Street, Charles Town, WV 25414. | Planning and Zoning Division, 101 East Washington Street, Charles Town, WV 25414. | https://msc.fema.gov/portal/advanceSearch. | Jul. 18, 2024 | 540066
Jefferson | Unincorporated areas of Jefferson County (23-03-0716P). | Steve Stolipher, President, Jefferson County Commission, P.O. Box 250, Charles Town, WV 25414. | Jefferson County Department of Engineering, 116 East Washington Street, Suite 200, Charles Town, WV 25414. | https://msc.fema.gov/portal/advanceSearch. | Jul. 18, 2024 | 540065

[FR Doc. 2024-08524 Filed 4-19-24; 8:45 am]

BILLING CODE 9110-12-P